DEPARTMENT OF DEFENSE

Office of the Secretary

[Docket ID: DOD-2011-OS-0024]

Privacy Act of 1974; System of Records

AGENCY: Office of the Secretary, DoD.

ACTION: Notice to Delete three Systems of Records.

SUMMARY: The Office of the Secretary of Defense is deleting three systems of record notices from its existing inventory of record systems subject to the Privacy Act of 1974, (5 U.S.C. 552a), as amended.

DATES: This proposed action will be effective without further notice on March 25, 2011 unless comments are received which result in a contrary determination.

ADDRESSES: You may submit comments, identified by docket number and/or Regulatory Information Number (RIN) and title, by any of the following methods:

* Federal Rulemaking Portal: http://www.regulations.gov. Follow the instructions for submitting comments.

* Mail: Federal Docket Management System Office, 1160. Defense Pentagon, Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mrs. Cindy Allard at (703) 588-6830, or the Privacy Act Officer, Office of Freedom of Information, Washington Headquarters Services, 1155 Defense Pentagon, Washington, DC 20301-1155.

SUPPLEMENTARY INFORMATION: The Office of the Secretary of Defense systems of records notices subject to the Privacy Act of 1974, (5 U.S.C. 552a), as amended, have been published in the Federal Register and are available from the FOR FURTHER INFORMATION CONTACT address above.

The Office of the Secretary of Defense proposes to delete three systems of records notices from its inventory of record systems subject to the Privacy Act of 1974 (5 U.S.C. 552a), as amended. The proposed deletion is not within the purview of subsection (r) of the Privacy Act of 1974, (5 U.S.C. 552a), as amended, which requires the submission of a new or altered system report.

Dated: February 15, 2011.
Morgan F. Park,
Alternate OSD Federal Register Liaison Officer, Department of Defense.

Deletion:

JS007MPD

Joint Manpower Automation System Files, (February 22, 1993, 58 FR 10557).

Reason:

The Joint Staff Military Personnel Files are covered by existing system of records notices issued by each of the Military Services and civilian personnel records are covered by a government-wide system notice and this system notice is duplicative. The applicable systems of records notices are:

Army: A0600-8-104b AHRC, Official Military Personnel Records (August 8, 2004, 69 FR 51271).

Navy: N0070-3, Navy Military Personnel Records System (April 15, 2010, 75 FR 19627).

Marine Corps: M01070-6, Marine Corps Official Military Personnel Files (March 17, 2008, 73 FR 14234).

Air Force: F036 AF PC C, Military Personnel Records System (October 13, 2000, 65 FR 60916).

DoD civilian records are covered under OPM/Govt-1, General Personnel Records (June 19, 2006, 71 FR 35356).

Deletion:

JS009ATHD

Anti-Terrorism Awareness Training Records Files, (February 22, 1993, 58 FR 10557).

Reason:

The Joint Staff does not collect or maintain training data. DoD Instruction 2000.16, DoD Antiterrorism Standards, establishes that unit commanders and directors are responsible for maintaining data on training completion.

Deletion:

JS003SMB

Manpower, Personnel and Security System (MPSS) Files (February 22, 1993, 58 FR 10557).

Reason:

The Joint Staff Manpower, Personnel and Security System files are covered by existing system of records notices issued by each of the Military Services and this system notice is duplicative. These systems of records notices are:

Army: A0600-8-104b AHRC, Official Military Personnel Records (August 8, 2004, 69 FR 51271).

Navy: N0070-3, Navy Military Personnel Records System (April 15, 2010, 75 FR 19627).

Marine Corps: M01070-6, Marine Corps Official Military Personnel Files (March 17, 2008, 73 FR 14234).

Air Force: F036 AF PC C, Military Personnel Records System (October 13, 2000, 65 FR 60916).

[FR Doc. 2011-3971 Filed 2-22-11; 8:45 am]

BILLING CODE 5001-06-P